DEPARTMENT OF HEALTH AND HUMAN SERVICES

Health Resources and Services Administration

Agency Information Collection Activities: Proposed Collection: Public Comment Request; Information Collection Request Title: Federal Tort Claims Act (FTCA) Program Deeming Applications for Health Centers, OMB No. 0906-XXXX—New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than August 22, 2017.

ADDRESSES: Submit your comments to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: Federal Tort Claims Act (FTCA) Program Deeming Applications for Health Centers, OMB No. 0906-XXXX—New

Abstract: Section 224(g)-(n) of the Public Health Service (PHS) Act (42 U.S.C. 233(g)-(n)), as amended, authorizes the “deeming” of entities receiving funds under section 330 of the PHS Act as PHS employees for the purposes of receiving Federal Tort Claims Act (FTCA) coverage. The Health Center Program is administered by HRSA's Bureau of Primary Health Care (BPHC). Health centers submit deeming applications to BPHC in the prescribed form and manner to obtain deemed PHS employee status with the associated FTCA coverage.

Need and Proposed Use of the Information: Deeming applications must address certain specified criteria required by law for deeming determinations to be issued, and FTCA application forms are critical to BPHC's deeming determination process. These forms provide BPHC with the information necessary to evaluate an application and make a deeming determination for the purposes of FTCA coverage. The application information is also used to determine whether a site visit is appropriate to assess issues relating to the health center's quality of care and to determine technical assistance needs.

Likely Respondents: Respondents include Health Center Program funds recipients seeking deemed PHS employee status for purposes of FTCA coverage.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours:

Form name | Number of respondents | Number of responses per respondent | Total responses | Average burden per response (in hours) | Total burden hours
FTCA Health Center Program Initial Application | 35 | 1 | 35 | 2.5 | 87.5
FTCA Health Center Program Redeeming Application | 1125 | 1 | 1125 | 2.5 | 2812.5
Total | 1160 |  | 1160 |  | 2900

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-13176 Filed 6-22-17; 8:45 am]

BILLING CODE 4165-15-P